DEPARTMENT OF THE INTERIOR

Bureau of Land Management

[OR-958-6333-ET; GP0-0087; OR-54142]

Public Land Order No. 7436; Withdrawal of Public Lands for Coos Bay North Spit Special Recreation Area and Area of Critical Environmental Concern; Oregon

AGENCY: Bureau of Land Management, Interior.

ACTION: Public land order.

SUMMARY: This order withdraws 1,712.74 acres of public lands from mining for a period of 20 years for the Bureau of Land Management to protect the Coos Bay North Spit Special Recreation Management Area and Area of Critical Environmental Concern. An additional 150.93 acres of non-Federal lands, if acquired by the United States, would also be withdrawn by this order. The public lands have been and will remain open to surface entry and mineral leasing subject to other segregations of record.

EFFECTIVE DATE: March 24, 2000.

FOR FURTHER INFORMATION CONTACT: Michael Barnes, BLM Oregon/Washington State Office, P.O. Box 2965, Portland, Oregon 97208-2965, 503-952-6155.

By virtue of the authority vested in the Secretary of the Interior by Section 204 of the Federal Land Policy and Management Act of 1976, 43 U.S.C. 1714 (1994), it is ordered as follows:

1. Subject to valid existing rights and other segregations of record, the following described public lands are hereby withdrawn from location and entry under the United States mining laws (30 U.S.C. Ch 2 (1994)), but not from surface entry under the general land laws or leasing under the mineral leasing laws, to protect the Coos Bay North Spit Special Recreation Area and Area of Critical Environmental Concern:

Willamette Meridian

T. 25 S., R. 13 W.,

Sec. 4, N½NW¼;

Sec. 5, fractional NW¼NW¼;

Sec. 6, lot 3, lots 5 to 9, inclusive, and

SE¼NE¼;

Sec. 7, lots 6 and 8, and lots 10 to 19, inclusive;

Sec. 8, lot 2;

Sec. 18, lots 7 and 8, E½NW¼, fractional W½NW¼, and fractional NW¼SW¼.

T. 25 S., R. 14 W.,

Sec. 12, lot 1;

Sec. 13, lots 1 to 4, inclusive, and E½SE¼;

Sec. 23, lot 1;

Sec. 24, lots 6 to 13, inclusive, W½NE¼, and NE¼SW¼;

Sec. 25, lot 3 and lot 1 including all of the tideland lying east of, fronting, and abutting upon;

Sec. 26, lots 8 to 10, inclusive;

The areas described aggregate approximately 1,712.74 acres in Coos County.

2. The following described non-Federal lands, if acquired by the United States, will be subject to the terms and conditions of this withdrawal as described in paragraph 1:

Willamette Meridian

T. 25 S., R. 13 W.,

Sec. 18, lots 3 and 4, and NE¼SW¼;

Sec. 19, lot 4.

T. 25 S., R. 14 W.,

Sec. 24, lot 4.

Along with any accretion to the above listed lands. The areas described aggregate approximately 150.93 acres in Coos County.

3. The withdrawal made by this order does not alter the applicability of those public land laws governing the use of the lands under lease, license, or permit, or governing the disposal of their mineral or vegetative resources other than under the mining laws.

4. This withdrawal will expire 20 years from the effective date of this order unless as a result of a review conducted before the expiration date pursuant to Section 204(f) of the Federal Land Policy and Management Act of 1976, 43 U.S.C. 1714 (1994), the Secretary determines that the withdrawal shall be extended.

Dated: March 10, 2000.
Kevin Gover,
Assistant Secretary of the Interior.

[FR Doc. 00-7293 Filed 3-23-00; 8:45 am]

BILLING CODE 4310-33-P